FEDERAL TRADE COMMISSION

Agency Information Collection Activities; Proposed Collection; Comment Request; Extension

AGENCY: Federal Trade Commission.

ACTION: Notice.

SUMMARY: In accordance with the Paperwork Reduction Act of 1995 (“PRA”), the Federal Trade Commission (“FTC” or “Commission”) is seeking public comment on its proposal to extend for an additional three years the Office of Management and Budget clearance for information collection requirements in the Trade Regulation Rule entitled Power Output Claims for Amplifiers Utilized in Home Entertainment Products (“Amplifier Rule” or “Rule”). This clearance expires on April 30, 2024.

DATES: Comments must be filed by March 19, 2024.

ADDRESSES: Interested parties may file a comment online or on paper, by following the instructions in the Request for Comment part of the SUPPLEMENTARY INFORMATION section below. Write “Amplifier Rule, PRA Comment, P085405,” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Hong Park, Attorney, Division of Enforcement, Bureau of Consumer Protection, Federal Trade Commission, (202) 326-2158, hpark@ftc.gov.

SUPPLEMENTARY INFORMATION:

Title: Amplifier Rule, 16 CFR part 432.

OMB Control Number: 3084-0105.

Type of Review: Extension of a currently approved collection.

Estimated Annual Hours of Burden: 462 hours (308 testing hours; 154 disclosure hours).

Likely Respondents and Estimated Burden:

(a) Testing—High fidelity manufacturers—308 new products/year × 1 hour each = 308 hours; and

(b) Disclosures—High fidelity manufacturers—[(308 new products/year × 1 specification sheet) + (308 new products/year × 1 brochure)] × 15 minutes per specification sheet or brochure = 154 hours.

Frequency of Response: Periodic.

Estimated Annual Labor Cost: $28,019 per year ($17,131 for testing + $10,888 for disclosures).

Abstract: The Amplifier Rule assists consumers by standardizing the measurement and disclosure of power output and related performance characteristics of amplifiers in stereos and other home entertainment equipment. The Rule also specifies the test conditions necessary to make the disclosures that the Rule requires.

As required by section 3506(c)(2)(A) of the PRA, 44 U.S.C. 3506(c)(2)(A), the FTC is providing this opportunity for public comment before requesting that OMB extend the existing clearance for the information collection requirements contained in the Rule.

Burden Estimates:

Estimated annual hours of burden: 462 hours (308 testing hours; 154 disclosure hours).

The Rule's provisions require manufacturers making certain amplifier power output-related claims to test the power output in accordance with a specified FTC protocol. The Commission staff estimates that approximately 308 new models of covered products ¹ (i.e., amplifiers, receivers, and amplifier-integrated devices typically marketed to consumers with amplifier power output-related claims) come on the market each year. High fidelity manufacturers routinely conduct performance tests on these new models prior to sale. Because manufacturers conduct such tests, the Rule imposes no additional costs except to the extent that the FTC protocol is more time-consuming than alternative testing procedures. In this regard, a warm-up period that the Rule requires before measurements are taken may add approximately one hour to the time testing would otherwise entail. Thus, staff estimates that the Rule imposes approximately 308 hours (1 hour × 308 new models) of added testing burden annually.

¹ Staff estimates 2,500 models of amplifiers or amplifier-integrated devices are sold in the U.S. each year and that approximately 2,050 models are marketed with amplifier power output-related claims that would subject them to the Rule's requirements. Of these 2,050 models, staff estimates approximately 80% or 1,640 of the models have nominally new model numbers but only 15% or 308 of the models require new testing and disclosures because the products are either entirely new or have significant changes from their prior iteration.

In addition, the Rule requires disclosures if a seller makes a triggering power output-related claim for a covered product in an advertisement, specification sheet, or product brochure. This requirement does not impose any additional costs on sellers because, absent the Rule, media advertisements, as well as manufacturer specification sheets and product brochures, would contain a power specification obtained using an alternative to the Rule-required testing protocol. The Rule, however, also requires disclosure of harmonic distortion, power bandwidth, and impedance ratings in manufacturer specification sheets and product brochures that might not otherwise be included.

Staff assumes that manufacturers produce one specification sheet and one brochure each year for each new model. The burden of disclosing the harmonic distortion, bandwidth, and impedance information on the specification sheets and brochures is limited to the time needed to draft and review the language pertaining to the aforementioned specifications. Staff estimates the time involved for this task to be a maximum of fifteen minutes (or 0.25 hours) for each new specification sheet or brochure for a total of 154 hours (derived from [(308 new models × 1 specification sheet) + (308 new models × 1 brochure)] × 0.25 hours for each specification sheet or brochure). The total annual burden imposed by the Rule, therefore, is approximately 462 burden hours for testing and disclosures.

Estimated annual labor cost burden: $28,019.

Generally, electronics engineers perform the testing of amplifiers. Staff estimates a labor cost of $17,131 for such testing (308 hours for testing × $55.62 mean hourly wages). Staff assumes advertising or promotions managers prepare the disclosures contained in product brochures and manufacturer specification sheet and estimates a labor cost of $10,888 (154 hours for disclosures × $70.70 mean hourly wages). Accordingly, staff estimates the total labor costs associated with the Rule to be approximately $28,019 per year ($17,131 for testing + $10,888 for disclosures).²

² The wage rates for electronics engineers and advertising and promotions managers are based on recent data from the Bureau of Labor Statistics Occupational Employment Statistics Survey at https://www.bls.gov/news.release/ocwage.htm.

The Rule imposes no capital or other non-labor costs because its requirements are incidental to testing and advertising done in the ordinary course of business.

Request for Comment

Pursuant to section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before March 19, 2024. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “Amplifier Rule, PRA Comment, P085405,” on your comment and on the envelope, and mail it to the following address: Federal Trade Commission, Office of the Secretary, 600 Pennsylvania Avenue NW, Suite CC-5610 (Annex J), Washington, DC 20580. If possible, submit your paper comment to the Commission by overnight service.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before March 19, 2024. For information on the Commission's privacy policy, including routine uses permitted by the Privacy Act, see https://www.ftc.gov/site-information/privacy-policy.

Josephine Liu,
Assistant General Counsel for Legal Counsel.

[FR Doc. 2024-01006 Filed 1-18-24; 8:45 am]

BILLING CODE 6750-01-P